DEPARTMENT OF HEALTH AND HUMAN SERVICES

42 CFR Part 121

Organ Procurement and Transplantation Network; Response to Comment Period

AGENCY: Health Resources and Services Administration, HHS.

ACTION: Final rule; response to comments.

SUMMARY: Section 413 of the Ticket to Work and Work Incentives Improvement Act of 1999, signed into law by the President on December 17, 1999, provided that the Organ Procurement and Transplantation Network (OPTN) Final Rule published on April 2, 1998, together with the amendments published on October 20, 1999, was not to become effective before March 16, 2000. The Department published a notice in the Federal Register on December 21, 1999, announcing the stay of the Final Rule and informing the public of the opportunity to submit comments on the Final Rule, as amended, for a 60-day period. After considering the comments submitted, the Department has determined that no further amendments to the Final Rule are warranted at this time.

DATES: The Final Rule published on April 2, 1998 (63 FR 16296) and amended on October 20, 1999 (64 FR 56650) became effective on March 16, 2000.

FOR FURTHER INFORMATION CONTACT: Lynn Rothberg Wegman, Director, Division of Transplantation, Office of Special Programs, HRSA, 5600 Fishers Lane, Room 7C-22, Rockville, Maryland 20857. Telephone: 301-443-7577.

SUPPLEMENTARY INFORMATION: In response to the Federal Register notice of December 21, 1999 (64 FR 71626), the Department received 2,561 public comments. Of these, 2,205 were form letters. All of the form letters and a majority of the individual comments opposed some provisions of the Final Rule. However, after reviewing these comments, the Department has concluded that the comments raised no significant issues not addressed previously in the history of this rulemaking. Indeed, the comments raised issues which were addressed in the amendments published on October 20, 1999 (64 FR 56650), and in explanatory language in the preamble to those amendments.

For these reasons, the Department has determined that no further amendments to the Final Rule are warranted by the most recent public comments at this time.

Dated: March 17, 2000.
Claude Earl Fox,
Administrator, Health Resources and Services Administration.

Approved: March 17, 2000.
Donna E. Shalala,
Secretary.

[FR Doc. 00-7177 Filed 3-20-00; 12:19 pm]

BILLING CODE 4160-15-P